DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 22, 2011.

Interested persons are invited to submit written comments regarding the subject matter of the investigations to the Director, Division of Trade Adjustment Assistance, at the address shown below, not later than February 22, 2011.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 31st day of January 2011.
Elliott S. Kushner,
Certifying Officer, Office of Trade Adjustment Assistance.

APPENDIX
[TAA petitions instituted between 1/24/11 and 1/28/11]
TA-W | Subject firm (petitioners) | Location | Date of institution | Date of petition
75127 | Ashland Hercules Water Technologies (Workers) | Louisiana, MO | 01/24/11 | 01/20/11
75128 | Olympic Fabrication LLC (State/One-Stop) | Shelton, WA | 01/24/11 | 01/20/11
75129 | Randstadt (State/One-Stop) | Yakima, WA | 01/24/11 | 01/20/11
75130 | FTCA (Union) | Somerset, PA | 01/24/11 | 01/21/11
75131 | JLG Industries, Inc. (State/One-Stop) | Hagerstown, MD | 01/25/11 | 01/24/11
75132 | NIOXIN Research Laboratories, Inc. (Company) | Lithia Springs, GA | 01/25/11 | 12/31/10
75133 | McComb Mill Warehouse (Company) | McComb, MS | 01/25/11 | 01/12/11
75134 | Veyance Technologies, Inc. (Company) | Lincoln, NE | 01/25/11 | 01/24/11
75135 | Flowserve (State/One-Stop) | Albuquerque, NM | 01/25/11 | 01/21/11
75136 | The Connection (Workers) | Penn Yan, NY | 01/25/11 | 01/24/11
75137 | John Crane, Inc. (Company) | Cranston, RI | 01/25/11 | 01/24/11
75138 | Ashland Foundry and Machine Works, Inc. (Union) | Ashland, PA | 01/25/11 | 01/24/11
75139 | Somanetics (Workers) | Troy, MI | 01/25/11 | 01/24/11
75140 | Holland Consulting (Company) | Enumclaw, WA | 01/26/11 | 01/25/11
75141 | Wellpoint (Workers) | Green Bay, WI | 01/26/11 | 01/20/11
75142 | Oak Creek Consolidated, Inc. (Company) | Yorktown, VA | 01/26/11 | 01/25/11
75143 | Alliance Group Technologies, Inc. (Workers) | Peru, IN | 01/27/11 | 01/26/11
75144 | Cincinnati Tyrolit, Inc. (State/One-Stop) | Cincinnati, OH | 01/28/11 | 01/27/11
75145 | Volvo Information Technology (State/One-Stop) | Greensboro, NC | 01/28/11 | 01/27/11
75146 | Berkley Surgical (Workers) | Uniontown, PA | 01/28/11 | 01/26/11

[FR Doc. 2011-2963 Filed 2-9-11; 8:45 am]

BILLING CODE 4510-FN-P